DEPARTMENT OF TRANSPORTATION

Federal Aviation Administration

Type Certificates 3A2 and A-772

AGENCY: Federal Aviation Administration (FAA), DOT.

ACTION: Request for information on holder of Type Certificates (TCs) prior to FAA declaring TCs abandoned.

SUMMARY: This notice requests that the current holder(s) (or their heirs) of TCs 3A2 and A-772 come forward and identify themselves; otherwise, the FAA will declare the TCs as abandoned. This notice is issued in accordance with § 302 of the FAA Modernization and Reform Act of 2012,¹ partially codified as Title 49 of the United States Code (49 U.S.C.) § 44704(a)(5).

¹ Public Law 112-95.

DATES: We must receive all correspondence by June 6, 2017.

FOR FURTHER INFORMATION CONTACT: Send all correspondence on this issue via certified mail to: Federal Aviation Administration, Anchorage Aircraft Certification Office, 222 W 7th Avenue, MS 14, Anchorage, AK 99513. ATTN: Della Swartz, ACE-115N. All letters must be signed. You may also contact Ms. Swartz by phone at (907) 271-2672 or electronically at: della.swartz@faa.gov.

SUPPLEMENTARY INFORMATION:

Background

The FAA has received a third party request for the release of data for TCs 3A2 and A-772 under the provisions of Freedom of Information Act (FOIA) 5 U.S.C. 552. The FAA cannot release the requested data under FOIA without the permission of the TC holders. The TC holders last listed on the certificate records are Airlift International, Inc., in Miami, FL for TC 3A2 and Flying Tiger Line, Inc., in Burbank, CA for TC A-772. The FAA has been unsuccessful in contacting the holders of record by telephone, email, and/or certified mail. There has been no activity with the TC holders for more than three years.

Information Requested

If you are the owners, or heirs, or a transferee of these TCs or have any knowledge regarding who may now hold TCs 3A2 or A-772, please contact Della Swartz using a method described in the FOR FURTHER INFORMATION CONTACTof this notice. If you are the owner of TCs 3A2 or A-772, you must provide a notarized copy of your Government issued identification (ID) with a letter and background establishing your ownership of the TCs and/or relationship as the heir to the deceased holder of the TC (if that is the case).

Conclusion

If we do not receive any response by June 6, 2017, we will consider TCs 3A2 and A-772 abandoned and we will proceed with the release of the requested data.

Kelly Broadway,
Acting Manager, Small Airplane Directorate, Aircraft Certification Service.

[FR Doc. 2016-29432 Filed 12-7-16; 8:45 am]

BILLING CODE 4910-13-P